DEPARTMENT OF ENERGY

Federal Energy Regulatory Commission

Combined Notice of Filings #1

Take notice that the Commission received the following electric rate filings:

Docket Numbers: ER12-2200-001.

Applicants: Mehoopany Wind Energy LLC.

Description: MBR Application of Mehoopany Wind Energy LLC to be effective 9/1/2012.

Filed Date: 8/6/12.

Accession Number: 20120806-5135.

Comments Due: 5 p.m. ET 8/27/12.

Docket Numbers: ER12-2408-000.

Applicants: Entergy Arkansas, Inc., Entergy Services, Inc.

Description: EAI-Paragould SA 644 to be effective 10/11/2011.

Filed Date: 8/6/12.

Accession Number: 20120806-5041.

Comments Due: 5 p.m. ET 8/27/12.

Docket Numbers: ER12-2409-000.

Applicants: PJM Interconnection, L.L.C.

Description: Original Service Agreement No. 3356; Queue No. W4-033 to be effective 7/16/2012.

Filed Date: 8/6/12.

Accession Number: 20120806-5058.

Comments Due: 5 p.m. ET 8/27/12.

Docket Numbers: ER12-2410-000.

Applicants: New York Independent System Operator, Inc.

Description: SGIA 1895 Among NYISO, NYSEG and Broome Energy Resources to be effective 7/26/2012.

Filed Date: 8/6/12.

Accession Number: 20120806-5070.

Comments Due: 5 p.m. ET 8/27/12.

Docket Numbers: ER12-2411-000.

Applicants: Entergy Arkansas, Inc.

Description: EAI Marketing Agreement Refile to be effective 10/1/2012.

Filed Date: 8/6/12.

Accession Number: 20120806-5088.

Comments Due: 5 p.m. ET 8/27/12.

Docket Numbers: ER12-2412-000.

Applicants: Public Service Electric and Gas Company, PJM Interconnection, L.L.C.

Description: PJM TOs submit revisions to PJM OATT Sch 12 re DFAX Threshold to be effective 10/5/2012.

Filed Date: 8/6/12.

Accession Number: 20120806-5089.

Comments Due: 5 p.m. ET 8/27/12.

Docket Numbers: ER12-2413-000.

Applicants: Energy Alternatives Wholesale, LLC.

Description: Application for Market-Based Rate Authority and Baseline Tariff to be effective 9/6/2012.

Filed Date: 8/6/12.

Accession Number: 20120806-5103.

Comments Due: 5 p.m. ET 8/27/12.

Docket Numbers: ER12-2414-000.

Applicants: New York Independent System Operator, Inc.

Description: NYISO Compliance Filing—Buyer-side Market Power Mitigation Provisions to be effective 6/22/2012.

Filed Date: 8/6/12.

Accession Number: 20120806-5136.

Comments Due: 5 p.m. ET 8/27/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 07, 2012.
Nathaniel J. Davis, Sr.,
Deputy Secretary.

[FR Doc. 2012-19856 Filed 8-13-12; 8:45 am]

BILLING CODE 6717-01-P